DEPARTMENT OF ENERGY

Federal Energy Regulatory Commission

Combined Notice of Filings #2

Take notice that the Commission received the following electric rate filings:

Docket Numbers: EL15-22-000; ER10-2475-006; ER13-521-002; ER13-520-002; ER13-1442-002; ER13-1441-002; ER13-1273-002; ER13-1272-002; ER13-1271-002; ER13-1270-002; ER13-1269-002; ER13-1268-002; ER13-1267-002; ER13-1266-003; ER12-21-013; ER12-1626-003; ER10-3246-003; ER10-2605-006; ER10-2474-006.

Applicants: Nevada Power Company, Sierra Pacific Power Company, PacifiCorp, Agua Caliente Solar, LLC, Pinyon Pines Wind I, LLC, Pinyon Pines Wind II, LLC, Solar Star California XIX, LLC, Solar Star California XX, LLC, Topaz Solar Farms LLC, CalEnergy, LLC, CE Leathers Company, Del Ranch Company, Elmore Company, Fish Lake Power LLC, Salton Sea Power Generation Company, Salton Sea Power L.L.C., Vulcan/BN Geothermal Power Company, Yuma Cogeneration Associates.

Description: Response to Show Cause Order of the Berkshire Hathaway Energy MBR Sellers.

Filed Date: 2/9/15.

Accession Number: 20150209-5120.

Comments Due: 5 p.m. ET 3/2/15.

Docket Numbers: ER10-1285-005.

Applicants: Craven County Wood Energy Limited Partnership.

Description: Notice of Non-Material Change in Status of Craven County Wood Energy Limited Partnership.

Filed Date: 2/9/15.

Accession Number: 20150209-5177.

Comments Due: 5 p.m. ET 3/2/15.

Docket Numbers: ER13-1523-002; ER12-1875-003.

Applicants: Blythe Energy Inc., AltaGas Renewable Energy Colorado LLC.

Description: Notice of Change in Status of Blythe Energy Inc. and AltaGas Renewable Energy Colorado LLC.

Filed Date: 2/9/15.

Accession Number: 20150209-5186.

Comments Due: 5 p.m. ET 3/2/15.

Docket Numbers: ER15-372-001.

Applicants: PJM Interconnection, L.L.C.

Description: Tariff Amendment per 35.17(b): Response to Request for Additional Information and Errata, PJM SA 1141 to be effective 10/10/2014.

Filed Date: 2/9/15.

Accession Number: 20150209-5202.

Comments Due: 5 p.m. ET 3/2/15.

Docket Numbers: ER15-1013-000.

Applicants: WSPP Inc.

Description: § 205(d) rate filing per 35.13(a)(2)(iii): 2015 Normal to be effective 4/10/2015.

Filed Date: 2/9/15.

Accession Number: 20150209-5087.

Comments Due: 5 p.m. ET 3/2/15.

Docket Numbers: ER15-1014-000.

Applicants: The Connecticut Light and Power Company, Public Service Company of New Hampshire, Western Massachusetts Electric Company.

Description: Northeast Utilities Service Company on behalf of The Connecticut Light and Power Company, et. al. submits Notice of Cancellation of Service Agreements.

Filed Date: 2/9/15.

Accession Number: 20150209-5130.

Comments Due: 5 p.m. ET 3/2/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2015.
Nathaniel J. Davis, Sr.,
Deputy Secretary.

[FR Doc. 2015-03108 Filed 2-13-15; 8:45 am]

BILLING CODE 6717-01-P